DEPARTMENT OF HEALTH AND HUMAN SERVICES

Centers for Disease Control and Prevention

Disease, Disability, and Injury Prevention and Control Special Emphasis Panel (SEP): Initial Review

The meeting announced below concerns Integrating Self-Management Training with Cancer Survivorship Care Planning, Special Interest Projects (SIP)14-015; Utilizing Data Linkages to Populate Treatment Summaries for Cancer Survivors, SIP14-017; and Skin Cancer Prevention: Finding Messages that Work to Reduce Incidental and Intentional UV Exposure SIP14-018, Panel B1, initial review.

In accordance with Section 10(a)(2) of the Federal Advisory Committee Act (Pub. L. 92-463), the Centers for Disease Control and Prevention (CDC) announces the aforementioned meeting:

Time and Date: 9:00 a.m.-6:00 p.m., June 3, 2014 (Closed).

Place: Teleconference.

Status: The meeting will be closed to the public in accordance with provisions set forth in Section 552b(c) (4) and (6), Title 5 U.S.C., and the Determination of the Director, Management Analysis and Services Office, CDC, pursuant to Public Law 92-463.

Matters for Discussion: The meeting will include the initial review, discussion, and evaluation of applications received in response to “Integrating Self-Management Training with Cancer Survivorship Care Planning, SIP14-015; Utilizing Data Linkages to Populate Treatment Summaries for Cancer Survivors, SIP14-017; and Skin Cancer Prevention: Finding Messages that Work to Reduce Incidental and Intentional UV Exposure SIP14-018, Panel B1, initial review.”

Contact Person for More Information: Diana Bartlett, M.P.H., M.P.P., Health Scientist, CDC, 1600 Clifton Road, NE., Mailstop D-72, Atlanta, Georgia 30333, Telephone: (404) 639-4938, ZXD5@CDC.GOV.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2014-11354 Filed 5-15-14; 8:45 am]

BILLING CODE 4163-18-P